NATIONAL SCIENCE FOUNDATION

Advisory Committee Business and Operations; Notice of Meeting

In accordance with Federal Advisory Committee Act (Pub. L. 92-463, as amended), the National Science Foundation announces the following meeting:

Name: Business and Operations Advisory Committee (9556).

Date/Time: April 30, 2014; 1:00 p.m. to 5:30 p.m. (EST); May 1, 2014; 8:00 a.m. to 12:00 p.m. (EST).

Place: National Science Foundation, 4201 Wilson Boulevard, Stafford I, Room 1235.

Type of Meeting: OPEN.

Contact Person: Joan Miller, National Science Foundation, 4201 Wilson Boulevard, Arlington, VA 22230, (703) 292-8200.

Purpose of Meeting: To provide advice concerning issues related to the oversight, integrity, development and enhancement of NSF's business operations.

Agenda:

Wednesday, April 30, 2014 1:00 p.m.-5:30 p.m.: Welcome/Introductions; BFA/OIRM/CIO Updates; OMB Publication of Uniform Guidance; Report from Working Group to Consider the Issue of Linking NSF Organizational Goals and Objectives with Employee Performance Plans; Virtual Panels.

Thursday, May 1, 2014 8:00 a.m.-12:00 p.m.: Business Systems Review (BSR) Process; Prepare for Meeting with Dr. Marrett; Discussion with Dr. Marrett; Closing Discussion.

Dated: March 31, 2014.
Suzanne Plimpton,
Acting Committee Management Officer.

[FR Doc. 2014-07438 Filed 4-2-14; 8:45 am]

BILLING CODE 7555-01-P